DEPARTMENT OF AGRICULTURE

Food Safety and Inspection Service

[Docket No. FSIS-2005-0046]

Codex Alimentarius Commission: 38th Session of the Codex Committee on Food Additives and Contaminants

AGENCY: Office of the Under Secretary for Food Safety, USDA.

ACTION: Notice of public meeting, request for comments.

SUMMARY: The Office of the Under Secretary for Food Safety, United States Department of Agriculture (USDA), and the Food and Drug Administration (FDA), United States Department of Health and Human Services, are sponsoring a public meeting on March 6, 2006, to provide information and receive public comments on agenda items that will be discussed at the meeting of the Codex Committee on Food Additives and Contaminants (CCFAC), which will be held in The Hague, The Netherlands, on April 24-28, 2006. The Under Secretary and FDA recognize the importance of providing interested parties the opportunity to obtain background information on the agenda items that will be discussed at this forthcoming session of the CCFAC.

DATES: The public meeting is scheduled for Monday, March 6, 2006, from 2 p.m. to 4 p.m.

ADDRESSES: The public meeting will be held in the Auditorium (Room 1A-003), Harvey W. Wiley Federal Building, 5100 Paint Branch Parkway, College Park, Maryland. Documents related to the 38th Session of the CCFAC will also be accessible via the World Wide Web at the following address: http://www.codexalimentarius.net/current.asp.

FSIS invites interested persons to submit comments on this notice. Comments may be submitted by any of the following methods:

Federal eRulemaking Portal: This Web site provides the ability to type short comments directly into the comment field on this Web page or attach a file for lengthier comments. FSIS prefers to receive comments through the Federal eRulemaking Portal. Go to http://www.regulations.gov and, in the “Search for Open Regulations” box, select “Food Safety and Inspection Service” from the agency drop-down menu, then click on “Submit.” In the Docket ID column, select the FDMS Docket Number (FSIS-2005-0046) to submit or view public comments and to view supporting and related materials available electronically.

Mail, including floppy disks or CD-ROMs, and hand- or courier-delivered items: Send to Docket Clerk, U.S. Department of Agriculture, Food Safety and Inspection Service, 300 12th Street, SW., Room 102 Cotton Annex Building, Washington, DC 20250.

Electronic mail: sis.regulationscomments@fsis.usda.gov. All submissions received must include the Agency name and docket number FSIS-2005-0046. All comments submitted in response to this notice, as well as research and background information used by FSIS in developing this document, will be posted to the regulations.gov Web site. The background information and comments also will be available for public inspection in the FSIS Docket Room at the address listed above between 8:30 a.m. and 4:30 p.m., Monday through Friday.

FOR FURTHER INFORMATION ABOUT THE 38TH SESSION OF THE CCFAC CONTACT: U.S. Delegate, Dr. Terry Troxell, Director, Office of Plant and Dairy Foods and Beverages, Center for Food Safety and Applied Nutrition, FDA, Harvey W. Wiley Federal Building, 5100 Paint Branch Parkway (HFS-300), College Park, MD 20740, Phone: (301) 436-1700, Fax: (301) 436-2632, E-mail: terry.troxell@fda.hhs.gov.

FOR FURTHER INFORMATION ABOUT THE PUBLIC MEETING CONTACT: Ellen Matten, U.S. Codex Office, Food Safety and Inspection Service, Room 4861, South Building, 1400 Independence Avenue SW., Washington, DC 20250, Phone: (202) 205-7760, Fax: (202) 720-3157. Attendees are requested to pre-register as soon as possible by e-mail to ccfac@cfsan.fda.gov.

SUPPLEMENTARY INFORMATION:

Background

The Codex Alimentarius Commission (Codex) was established in 1963 by two United Nations organizations, the Food and Agriculture Organization (FAO) and the World Health Organization (WHO). Codex is the major international standard-setting organization for protecting the health and economic interests of consumers and encouraging fair international trade in food. Through adoption of food standards, codes of practice, and other guidelines developed by its committees, and by promoting their adoption and implementation by governments, Codex seeks to ensure that the world's food supply is sound, wholesome, free from adulteration, and correctly labeled. In the United States, USDA, FDA, and the Environmental Protection Agency (EPA) manage and carry out U.S. Codex activities.

The Codex Committee on Food Additives and Contaminants (CCFAC) establishes or endorses maximum or guideline levels for individual food additives, for contaminants (including environmental contaminants), and for naturally occurring toxicants in foodstuffs and animal feeds. In addition the Committee prepares priority lists of food additives and contaminants for toxicological evaluation by the Joint FAO/WHO Expert Committee on Food Additives (JECFA); recommends specifications of identity and purity for food additives for adoption by the Commission; considers methods of analysis for the determination of food additives and contaminants in food; and considers and elaborates standards or codes for related subjects such as the labeling of food additives when sold as such, and food irradiation. The Committee is chaired by The Netherlands.

Issues to Be Discussed at the Public Meeting

Items on the provisional agenda of the 38th session of CCFAC to be discussed during the public meeting:

1. Matters referred or of interest to the committee arising from the Codex Alimentarius Commission and other Codex committees, including the endorsement or revision of maximum levels for food additives and contaminants in Codex commodity standards.

2. Summary report of the 65th meeting of the JECFA and any actions required as a result of changes in the acceptable daily intake (ADI) status and other toxicological recommendations.

3. Consideration of the Codex General Standard for Food Additives (GSFA) including:

(i) Draft Revision of the Preamble of the GSFA,

(ii) Revisions to the CCFAC's working principles for the further elaboration of the GSFA, including incorporating the food additive provisions in Codex Commodity Standards into the GSFA,

(iii) Report of the electronic working group on the GSFA,

(iv) Draft and proposed draft food additives provisions requiring information on their use, and

(v) Proposed draft food additive provisions at Step 3 and proposals for new uses.

4. Discussion Paper on Food Additive Provisions on Glazes for Foods.

5. Discussion Paper on the Development of Guidelines for Flavouring Agents.

6. Updated Inventory of Processing Aids (IPA).

7. International Numbering System (INS) for Food Additives.

(i) Harmonization of Terms used by Codex and JECFA,

(ii) Proposals for revisions or additions to the INS.

8. Specifications for the Identity and Purity of Food Additives.

9. Consideration of the Codex General Standard for Contaminants and Toxins (GSCT) with proposed draft revisions.

10. Proposed Draft Appendix to the Code of Practice for the Prevention and Reduction of Aflatoxin Contamination in Tree Nuts to address additional measures for the prevention and reduction of aflatoxins in Brazil nuts.

11. Proposed draft Sampling Plan for Aflatoxin contamination in almonds, Brazil nuts, hazelnuts, and pistachios.

12. Proposed draft maximum levels for Aflatoxin in unprocessed and processed almonds, hazelnuts, and pistachios.

13. Discussion Paper on Aflatoxins in Brazil nuts.

14. Discussion Paper on Deoxynivalenol (DON).

15. Discussion Paper on maximum levels for Ochratoxin (OTA) in Wine.

16. Discussion Paper on Ochratoxin A Contamination in Coffee and Cocoa.

17. Draft maximum levels for Lead in Fish.

18. Discussion Paper on maximum levels for Lead in Fish

19. Draft maximum levels for Cadmium in polished rice, marine bivalve mollusks, and cephalopods.

20. Proposed draft Code of Practice for Source Directed Measures to Reduce Dioxin and Dioxin-like PCB Contamination of Foods and feeds.

21. Proposed draft Code of Practice for the Reduction of Chloropropanols during the Production of Acid Hydrolyzed Vegetable Protein (HVPs) and Products that Contain Acid HVPs.

22. Proposed draft maximum level for 3-MCPD in Liquid Condiments Containing HVPs and Discussion Paper on Acid-HVPs Containing Products and other Products containing Chloropropanols.

23. Proposed draft maximum levels for Tin in canned beverages and other canned foods.

24. Discussion paper on Acrylamide.

25. Discussion paper on Polycyclic Aromatic Hydrocarbons (PAH) contamination.

26. Discussion paper on Guideline Levels for Methylmercury in fish.

27. Proposed Draft revised Guideline Levels for Radionuclides in Foods for use in International Trade.

28. Priority list of food additives, contaminants, and naturally occurring toxicants proposed for evaluation by JECFA.

29. Discussion Paper on the Development of a Maximum Level for Aflatoxins in Dried Figs.

Each issue listed will be fully described in documents distributed, or to be distributed, by The Netherlands' Secretariat to the Meeting. Members of the public may access or request copies of these documents (see ADDRESSES).

Public Meeting

At the March 6, 2006, public meeting, the agenda items will be described, discussed, and attendees will have the opportunity to pose questions and offer comments. Written comments may be offered at the meeting or sent to the U.S. Delegate for the 38th Session of the CCFAC, Dr. Terry Troxell (See FOR FURTHER INFORMATION ABOUT THE 38TH SESSION OF THE CCFAC CONTACT). Written comments should state that they relate to activities of the 38th Session of the CCFAC.

Additional Public Information

Public awareness of all segments of rulemaking and policy development is important. Consequently, in an effort to ensure that the public and in particular minorities, women, and persons with disabilities are aware of this notice, FSIS will announce it on-line through the FSIS Web page located at http://www.fsis.usda.gov/regulations/2006_Notices_Index/index.asp.

FSIS also will make copies of this Federal Register publication available through the FSIS Constituent Update, which is used to provide information regarding FSIS policies, procedures, regulations, Federal Register notices, FSIS public meeting, recalls, and other types of information that could affect or would be of interest to our constituents and stakeholders. The update is communicated via Listserv, a free e-mail subscription service consisting of industry, trade, and farm groups, consumer interest groups, allied health professionals, scientific professionals, and other individuals who have requested to be included. The update is available on the FSIS web page. Through Listserv and the web page, FSIS is able to provide information to a much broader, more diverse audience.

In addition, FSIS offers an e-mail subscription service which provides an automatic and customized notification when popular pages are updated, including Federal Register publications and related documents. This service is available at http://www.fsis.usda.gov/news_and_events/email_subscription/ and allows FSIS customers to sign up for subscription options across eight categories. Options range from recalls to export information to regulations, directives and notices.

Done at Washington, DC on February 6, 2006.
F. Edward Scarbrough,
U.S. Manager for Codex Alimentarius.

[FR Doc. E6-1991 Filed 2-10-06; 8:45 am]

BILLING CODE 3410-DM-P